LIBRARY OF CONGRESS

Copyright Royalty Board

[Docket No. 19-CRB-0005-WR (2021-2025)]

Determination of Rates and Terms for Digital Performance of Sound Recordings and Making of Ephemeral Copies To Facilitate Those Performances (Web V)

AGENCY: Copyright Royalty Board (CRB), Library of Congress.

ACTION: Notice announcing commencement of proceeding with request for Petitions to Participate.

SUMMARY: The Copyright Royalty Judges (Judges) announce commencement of a proceeding to determine reasonable rates and terms for two statutory licenses permitting the digital performance of sound recordings over the internet and the making of ephemeral recordings to facilitate those performances for the period beginning January 1, 2021, and ending December 31, 2025. The Judges also announce the date by which a party wishing to participate in the rate determination proceeding must file its Petition to Participate and the accompanying $150 filing fee.

DATES: Petitions to Participate and the filing fee are due no later than February 4, 2019.

ADDRESSES: Interested parties must submit petitions to participate and the required filing fee, using docket number 19-CRB-0005-WR (2021-2025). The CRB accepts all filings through eCRB, the CRB's electronic filing application, at https://app.crb.gov/. Parties without access to the internet may file using any of the following methods:

U.S. mail: Copyright Royalty Board, P.O. Box 70977, Washington, DC 20024-0977; or

Overnight service (only USPS Express Mail is acceptable): Copyright Royalty Board, P.O. Box 70977, Washington, DC 20024-0977; or

Commercial courier: Address package to: Copyright Royalty Board, Library of Congress, James Madison Memorial Building, LM-403, 101 Independence Avenue SE, Washington, DC 20559-6000. Deliver to: Congressional Courier Acceptance Site, 2nd Street NE and D Street NE, Washington, DC; or

Hand delivery: Library of Congress, James Madison Memorial Building, LM-401, 101 Independence Avenue SE, Washington, DC 20559-6000.

Instructions: Parties unable to use eCRB must submit an original, two paper copies, and an electronic version on a CD. All submissions must include the Copyright Royalty Board name and docket number. All submissions received will be posted without change on eCRB including any personal information provided.

Docket: For access to the docket, go to eCRB, the Copyright Royalty Board's electronic filing and case management system, at https://app.crb.gov/ and search for docket number 19-CRB-0005-WR (2021-2025).

FOR FURTHER INFORMATION CONTACT: Anita Blaine, CRB Program Specialist, by telephone at (202) 707-7658 or email at crb@loc.gov.

SUPPLEMENTARY INFORMATION: Under the Copyright Act, the Copyright Royalty Judges (Judges) must commence a proceeding every five years to determine reasonable rates and terms to license the digital transmission over the internet of sound recordings and the making of ephemeral recordings to facilitate those transmissions. See 17 U.S.C. 112(e), 114(d)(2), 803(b)(1)(A)(i)(III), 804(b)(3)(A). This notice commences the rate determination proceeding for the license period 2021-2025.

Petitions To Participate

Any party with a significant interest in the outcome of the rate proceeding must file a Petition to Participate in accordance with the Judges' regulations, including all of the information required by 37 CFR 351.1(b)(1). See 37 CFR 351.1(b). Parties must pay the $150 filing fee for each Petition to Participate.

The CRB will not accept cash. Parties filing online through eCRB must pay by credit card. Any party without access to the internet must pay the filing fee with a check or money order made payable to the “Copyright Royalty Board” and mailed or delivered with its Petition to Participate as described in the ADDRESSES section above. If a check is returned for lack of sufficient funds, the corresponding Petition to Participate will be dismissed.

Any participant that is an individual may represent herself or himself. All other participants must be represented by counsel. Only attorneys who are members of the bar in one or more states or the District of Columbia and in good standing will be allowed to represent parties before the Copyright Royalty Judges. See 37 CFR 350.2. The Judges will address further procedural matters, including scheduling, after receiving Petitions to Participate.

Dated: January 4, 2019.
Suzanne M. Barnett,
Chief Copyright Royalty Judge.

[FR Doc. 2019-00102 Filed 1-23-19; 8:45 am]

BILLING CODE 1410-72-P